DEPARTMENT OF TRANSPORTATION

Coast Guard

[CGD08-00-008]

Houston/Galveston Navigation Safety Advisory Committee Meeting

AGENCY: Coast Guard, DOT.

ACTION: Notice of meetings.

SUMMARY: The Houston/Galveston Navigation Safety Advisory Committee (HOGANSAC) and its working committees will meet to discuss waterway improvements, aids to navigation, Houston/Galveston-area projects impacting safety on the Houston Ship Channel, and various other navigation safety matters in the Houston/Galveston area. All meetings will be open to the public.

DATES: The next meeting of HOGANSAC will be held on Wednesday, May 24, 2000 from 8:30 a.m. to approximately 11 a.m. The meeting of the Committee's working groups will be held on Thursday, May 4, 2000 at 10 a.m. The meetings may adjourn early if all business is finished. Members of the public may present written or oral statements at either meeting.

ADDRESSES: The HOGANSAC meeting will be held in the conference room of the Houston Pilots' Office, 8150 South Loop East, Houston, TX. The working group meeting will be held at the Houston Yacht Club, 3620 Miramar, Seabrook, TX.

FOR FURTHER INFORMATION CONTACT: Captain Wayne Gusman, Executive Director of HOGANSAC, telephone (713) 671-5199; or Commander Peter Simons, Executive Secretary of HOGANSAC, telephone (713) 671-5164.

SUPPLEMENTARY INFORMATION: Notice of this meeting is given pursuant to the Federal Advisory Committee Act, 5 U.S.C. App. 2.

Agendas of the Meetings

Houston/Galveston Navigation Safety Advisory Committee (HOGANSAC)

The tentative agenda includes the following:

(1) Opening remarks by the Committee Sponsor (RADM Pluta) (or the Committee Sponsor's representative), Executive Director (CAPT Gusman) and Chairman (Tim Leitzell).

(2) Swearing in of new Committee members

(3) Approval of the January 28, 2000 minutes.

(4) Status of dredging projects.

(5) Barge lanes.

(6) Facility mooring depths data collection.

(7) Hurricane restoration plan.

(8) Eighth Coast Guard District, Office of Aids to Navigation, presentation on aids to navigation reconfiguration schedule.

(9) Seaman's Church Institute presentation on Houston simulator project.

(10) New business.

Working Committee Meeting

The tentative agenda for the working committee meeting includes the following:

(1) Presentation by each work group of its accomplishments and plans for the future.

(2) Review and discuss the work completed by each work group.

Work groups were formed to examine the following issues: hurricane contingency plan, PORTS funding/TCOON operability, dredging and related issues, barge lanes, electronic navigation systems, port emergency communications committee/internet site, AtoN knockdowns, VTS radio frequency congestion.

All work groups may not necessarily report out at this session. Further, work group reports may not necessarily include discussions on all issues within the particular work group's area of responsibility.

All meetings are open to the public. Please note that the meetings may adjourn early if all business is finished. Members of the public may make oral presentations during either meeting.

Information on Services for the Handicapped

For information on facilities or services for the handicapped or to request special assistance at the meetings, contact the Executive Director as soon as possible.

Dated: April 8, 2000.
Paul J. Pluta,
Rear Admiral, U. S. Coast Guard, Commander, Eighth Coast Guard District.

[FR Doc. 00-10152 Filed 4-21-00; 8:45 am]

BILLING CODE 4910-15-P